FARM CREDIT ADMINISTRATION

12 CFR Part 627

RIN 3052-AC16

Title IV Conservators, Receivers, and Voluntary Liquidations; Priority of Claims—Joint and Several Liability; Effective Date

AGENCY: Farm Credit Administration.

ACTION: Notice of effective date.

SUMMARY: The Farm Credit Administration (FCA) published a final rule under part 627 on September 26, 2007 (72 FR 54527). This final rule amends our priority of claims regulations to provide priority of claims rights to Farm Credit System (System) banks if they make payments under a reallocation agreement to holders of consolidated and System-wide obligations on behalf of a defaulting System bank. In accordance with 12 U.S.C. 2252, the effective date of the final rule is 30 days from the date of publication in the Federal Register during which either or both Houses of Congress are in session. Based on the records of the sessions of Congress, the effective date of the regulations is November 16, 2007.

DATES: Effective Date: The regulation amending 12 CFR part 627 published on September 26, 2007 (72 FR 54527) is effective November 16, 2007.

FOR FURTHER INFORMATION CONTACT:

Christopher D. Wilson, Policy Analyst, Office of Regulatory Policy, Farm Credit Administration, McLean, VA 22102-5090, (703) 883-4414, TTY (703) 883-4434; or

Rebecca S. Orlich, Senior Counsel, Office of General Counsel, Farm Credit Administration, McLean, VA 22102-5090, (703) 883-4020, TTY (703) 883-4020.

(12 U.S.C. 2252(a)(9) and (10))

Dated: November 16, 2007.
James M. Morris,
Acting Secretary, Farm Credit Administration Board.

[FR Doc. E7-22806 Filed 11-21-07; 8:45 am]

BILLING CODE 6705-01-P